DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: U.S. Fishermen Fishing in Russian Waters.

OMB Control Number: 0648-0228.

Form Number(s): None.

Type of Request: Regular submission.

Burden Hours: 1.

Number of Respondents: 1.

Average Hours per Response: 1.

Needs and Uses: United States (U.S.) fishermen who wish to fish in the Russian Federation Economic Zone may apply for a Russian Permit by submitting application information to the National Marine Fisheries Service for transmittal to Russian authorities. The permit holders must provide information regarding their permits and must report when entering or leaving the U.S. Exclusive Economic Zone. Regulations at 50 CFR Part 300 Subpart J apply.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 5, 2008.
Gwellnar Banks,
Management Analyst, Office of the Chief Information Officer.

[FR Doc. E8-29275 Filed 12-10-08; 8:45 am]

BILLING CODE 3510-22-P